DEPARTMENT OF COMMERCE

National Oceanic and Atmospheric Administration

[RTID 0648-XE570]

North Pacific Albacore United States Stakeholder Meeting; Meeting Announcement

AGENCY: National Marine Fisheries Service (NMFS), National Oceanic and Atmospheric Administration (NOAA), Commerce.

ACTION: Notice of public meeting.

SUMMARY: NMFS announces a U.S. stakeholder meeting to discuss North Pacific albacore (NPALB) management. This meeting is intended to prepare for potential discussions at the 2025 annual meetings of the Inter-American Tropical Tuna Commission (IATTC) and Western and Central Pacific Fisheries Commission Northern Committee (WCPFC NC) related to the results of the Management Strategy Evaluation (MSE) for NPALB fisheries. The meeting topics are described under the SUPPLEMENTARY INFORMATION section of this notice.

DATES: The virtual meeting will be held on February 20, 2025, from 1 p.m. to 4 p.m. PST (11 a.m.-2 p.m. HST). You must complete the registration process by February 13, 2025, if you plan to attend the meeting (see ADDRESSES).

ADDRESSES: If you plan to attend the meeting, which will be held by webinar, please register at https://forms.gle/7hDuYGSCtJbnHedS9. Instructions for attending the meeting will be emailed to meeting participants before the meeting occurs.

FOR FURTHER INFORMATION CONTACT: Emily Reynolds, Pacific Islands Regional Office, tel. 808-725-5039 or emily.reynolds@noaa.gov or Tyler Lawson, West Coast Region Office, tel. 503-230-5421 at tyler.lawson@noaa.gov.

SUPPLEMENTARY INFORMATION: In 2024, the WCPFC NC and IATTC requested the International Scientific Committee on Tuna and Tuna-like Species in the North Pacific Ocean (ISC) provide recommendations to relate fishing intensity to catch and/or effort. Additionally, the ISC's Albacore Working Group developed criteria for identifying exceptional circumstances for the NPALB MSE. This stakeholder meeting is intended to discuss these items as well as to prepare for anticipated discussions at the IATTC and WCPFC NC in 2025. For more information on fishing intensity recommendations and identifying exceptional circumstances, please see the ISC24 Plenary Report: https://isc.fra.go.jp/pdf/ISC24/ISC24_Plenary_Report_r1.pdf.

NPALB U.S. Stakeholder Meeting Topics

The meeting agenda will be distributed to participants in advance of the meeting. The meeting agenda will include a discussion on translating fishing intensity into catch and/or effort limits for NPALB, identifying exceptional circumstances for the NPALB MSE, and logbook updates.

Special Accommodations

Requests for sign language interpretation or other auxiliary aids should be indicated when registering for the meeting (see ADDRESSES) by February 13, 2025.

Authority: 16 U.S.C. 951 et seq., 16 U.S.C. 1801 et seq., and 16 U.S.C. 6901 et seq.

Dated: December 30, 2024.
Kelly Denit,
Director, Office of Sustainable Fisheries, National Marine Fisheries Service.

[FR Doc. 2024-31557 Filed 1-2-25; 8:45 am]

BILLING CODE 3510-22-P